DEPARTMENT OF COMMERCE

National Oceanic and Atmospheric Administration

50 CFR Part 300

[Docket No. 011005243-1243-01; I.D. 091001B]

RIN 0648-AO48

International Fisheries; Pacific Tuna Fisheries; 2001 Quotas and Management Measures for Yellowfin and Juvenile Bigeye Tuna

AGENCY: National Marine Fisheries Service (NMFS), National Oceanic and Atmospheric Administration (NOAA), Commerce.

ACTION: Final rule; 2001 quotas and management measures for yellowfin and juvenile bigeye tuna.

SUMMARY: NMFS announces the 2001 quotas and associated purse seine fishery conservation measures for the eastern tropical Pacific Ocean (ETP), consistent with recommendations by the Inter-American Tropical Tuna Commission (IATTC) that have been approved by the Department of State (DOS) under the terms of the Tuna Conventions Act.

DATES: Effective October 24, 2001, through December 31, 2001, or attainment of either or both quotas, which will be announced in the Federal Register.

ADDRESSES: Copies of the environmental assessment (EA) and the biological opinion (BO) for the January 3, 2000, interim final rule implementing the International Dolphin Conservation Program Act (IDCPA) and the aggregate data upon which the action is based are available from: Rodney McInnis, Acting Regional Administrator, Southwest Region, NMFS, 501 W. Ocean Boulevard, Suite 4200, Long Beach, CA 90802-4213.

FOR FURTHER INFORMATION CONTACT: Svein Fougner, Sustainable Fisheries Division, Southwest Region, NMFS, 562-980-4040.

SUPPLEMENTARY INFORMATION:

Background

The United States is a member of the IATTC, which was established under the Convention for the Establishment of an Inter-American Tropical Tuna Commission signed in 1949. The IATTC was established to ensure the effective international conservation and management of highly migratory species of fish in the Convention Area. The IATTC has maintained a scientific research and fishery monitoring program for many years and annually assesses the status of stocks of tuna and the fisheries to determine appropriate harvest limits or other measures to prevent overexploitation of the stocks and promote viable fisheries. The area covered by the Convention is all waters of the eastern Pacific Ocean (EPO) between 40° N. lat. and 40° S. lat. from North and South America west to 150° W. long. Within the area covered by the Convention, the IATTC has designated a smaller Commission Yellowfin Regulatory Area (CYRA) in which the total catch of yellowfin tuna historically has been limited. The boundaries of the CYRA are found at 50 CFR 300.21.

Under the regulations implementing the Tuna Conventions Act at 50 CFR 300.29, the Southwest Regional Administrator, NMFS (Regional Administrator), directly notifies owners or agents of U.S. tuna vessels of fishery management recommendations made by the IATTC and approved by the DOS. As soon as practicable after such notification, NMFS publishes a notification of the approved IATTC recommendations in the Federal Register.

Action by IATTC

At its annual meeting June 19-21, 2001, the IATTC adopted a resolution dealing with yellowfin tuna conservation. This resolution set an initial quota of 250,000 metric tons (mt) for yellowfin tuna taken in calendar year 2001 by purse seine vessels in the CYRA. This quota could be raised by up to three successive increments of 20,000 mt each if the Director of the IATTC concludes from examination of available data that such increases will pose no substantial danger to the stocks. After the quota is reached and the yellowfin tuna fishery is closed, catches of any vessel may include a maximum of 15 percent yellowfin tuna (relative to its total catch of all species of fish) caught while fishing for other species of tuna.

In a separate resolution adopted in June 2001, the IATTC recommended that action be taken to limit the catch of juvenile bigeye tuna in the purse seine fisheries to the level reached in 1999, which was 5,813 mt. The Director of IATTC will monitor the fisheries and determine the date on which the quota is projected to be reached (if at all). The Director will then inform the member nations that they should prohibit further use of purse seine sets on floating objects within 2 weeks of that date, except that the floating objects fishery will not close sooner than November 1, 2001.

The yellowfin tuna quota and juvenile bigeye tuna quota are both based on 2001 stock assessments of yellowfin and bigeye tuna stocks in the ETP. The stock assessments indicate that both the yellowfin and bigeye tuna stocks are healthy, although there is substantial uncertainty with respect to the bigeye tuna stock assessment. This stock extends throughout the Pacific and has not been assessed throughout its range by any international organization. However, the quotas set for yellowfin tuna and juvenile bigeye tuna are believed to be conservative because of the conservative assumptions used in the stock assessments concerning life history parameters of yellowfin and bigeye tuna.

NMFS Action

After receiving oral approval of this recommendation from the DOS on September 6, 2001, the Regional Administrator provided actual notice of these fishery management recommendations to owners or agents of U.S. tuna vessels on September 12, 2001. The DOS subsequently provided written approval of the IATTC recommendation on September 25, 2001. This notice is the formal announcement to the public of the implementation of the recommendations of the IATTC. As provided in 50 CFR 300.29(b), if any quota is reached, NMFS will announce a closure directly to the owners or agents of U.S. tuna vessels and publish the announcement in the Federal Register as soon as practicable after the attainment of the quota.

Classification

This action is authorized by 50 CFR part 300, subpart C.

The Assistant Administrator for Fisheries, NOAA (AA) finds that this action constitutes a foreign affairs function under 5 U.S.C. 553(a)(1), which exempts such functions from that section of the Administrative Procedure Act. This action implements quotas and management measures that have been recommended by the IATTC and approved by DOS, as authorized by the Tuna Conventions Act of 1949 and this part. Therefore, the provisions of 5 U.S.C. 553(b)(3)(B) for providing prior notice and an opportunity for public comment and the provisions of 5 U.S.C. 553(d)(3) for a 30-day delay in effectiveness do not apply to this action.

An EA was prepared for the interim final rule to implement the IDCPA (65 FR 47, January 3, 2000). This document is available from the Acting Regional Administrator (see ADDRESSES). The AA concluded that that rule would pose no significant impact on the human environment. The impacts of the fisheries as they will operate under quotas set in this action are within the range of impacts considered in the alternatives of that EA, and do not pose significant threats to the human environment; therefore, this action does not require further environmental analysis.

NMFS prepared a BO assessing the impacts of the fisheries as they would operate under the regulations implementing the IDCPA (65 FR 47, January 3, 2000). This document is available from the Acting Regional Administrator (see ADDRESSES). NMFS concluded that the fishing activities conducted under those regulations are not likely to jeopardize the continued existence of any endangered or threatened species under the jurisdiction of NMFS or result in the destruction or adverse modification of critical habitat. This rule will not result in any changes to the fisheries that would cause impacts beyond those considered in the BO.

Because prior notice and opportunity for public comment are not required for this rule by 5 U.S.C. 553, or any other law, the analytical requirements of the Regulatory Flexibility Act, 5 U.S.C., 601 et seq., are inapplicable.

This action is exempt from review under Executive Order 12866.

Authority: 16 U.S.C. 951-961 and 971 et seq.

Dated: October 18, 2001.
John Oliver,
Deputy Assistant Administrator for Operations, National Marine Fisheries Service.

[FR Doc. 01-26794 Filed 10-23-01; 8:45 am]

BILLING CODE 3510-22-S